DEPARTMENT OF THE INTERIOR

National Park Service

[NPS-WASO-NAGPRA-NPS0039573; PPWOCRADN0-PCU00RP14.R50000]

Notice of Inventory Completion: U.S. Department of the Interior, Fish and Wildlife Service, Alaska Region, Anchorage, AK

AGENCY: National Park Service, Interior.

ACTION: Notice.

SUMMARY: In accordance with the Native American Graves Protection and Repatriation Act (NAGPRA), the U.S. Department of the Interior, Fish and Wildlife Service, Alaska Region (USFWS), has completed an inventory of human remains and associated funerary objects and has determined that there is a cultural affiliation between the human remains and associated funerary objects and Indian Tribes or Native Hawaiian organizations in this notice.

DATES: Repatriation of the human remains and associated funerary objects in this notice may occur on or after April 18, 2025.

ADDRESSES: Jeremy M. Karchut, United States Fish and Wildlife Service, 1011 E Tudor Road, Anchorage, AK 99503, phone (907) 786-3399, email Jeremy_Karchut@fws.gov.

SUPPLEMENTARY INFORMATION: This notice is published as part of the National Park Service's administrative responsibilities under NAGPRA. The determinations in this notice are the sole responsibility of the USFWS, and additional information on the determinations in this notice, including the results of consultation, can be found in its inventory or related records. The National Park Service is not responsible for the determinations in this notice.

Abstract of Information Available

Atka Island

Human remains representing, at least, three individuals have been identified. No associated funerary objects are present. In either 1948 or 1949, the human remains were removed from burial caves on Atka Island in the Aleutians West Census Area, AK by Theodore P. Bank II, an ethno-botanist. The human remains were stored at the University of Michigan Museum of Anthropology, were transferred in 1982 to the University of Alaska Museum in Fairbanks, AK, and were transferred again in 2002 to the Museum of the Aleutians in Unalaska, AK. The remains were transferred again prior to 2008 to the Alaska Region, USFWS in Anchorage, AK which were then finally transferred in 2017 to the University of Alaska Museum in Fairbanks, AK. These remains are currently split between the University of Alaska Museum in Fairbanks, AK and the Museum of the Aleutians in Unalaska, AK.

Agattu Island

Human remains representing at least, 13 individuals have been identified. The 12 associated funerary objects are one basalt biface; one animal bone; and 10 unidentified objects. In 1949, the human remains and associated funerary objects were removed from Agattu Island in the Aleutians West Census Area, AK, during research permitted to Theodore P. Bank II. The human remains were stored at the University of Michigan Museum of Anthropology until being transferred in 2002 to the Museum of the Aleutians in Unalaska, AK. A portion of the remains were transferred again prior to 2008 to the Alaska Region, USFWS in Anchorage, AK which were then finally transferred in 2017 to the University of Alaska Museum in Fairbanks, AK. These remains are currently split between the University of Alaska Museum in Fairbanks, AK and the Museum of the Aleutians in Unalaska, AK.

Tanaga Island

Human remains representing, at least, two individuals have been identified. The 146 associated funerary objects are one awl, one bark fragment, seven stone bifaces, one basalt knife, one ground slate ulu fragment, two stone flake lots, four worked animal bones, one calcined bone fragment, one unidentified animal bone, one sea mammal bulla, 15 bird bones, one seal metacarpal/metatarsal, one sea lion flipper bone, one bone peg, one ivory swivel, one labret, two harpoon sockets, 54 matting fragments, 14 matting fragment lots, two matting bundles, one basket fragment lot, one fur and feather coat, one grass bundle, one wood container fragment, one piece of carved wood, two wood shaft fragments, five worked wood objects, one worked wood lot, four wood fragment lots, two wood and moss samples, one wood sample, 12 soil samples, one soil and organics lot, and one metal flake lot. In 1950, the human remains and associated funerary objects were removed from Michigan Rock Cave on a small islet off of Tanaga Island in the Aleutians West Census Area, AK, by Theodore P. Bank II during permitted archaeological excavations. The human remains and associated funerary objects were taken by Dr. Bank to the University of Michigan. Upon his death these remains were transferred to the University of Alaska Museum in Fairbanks, AK and then subsequently transferred to the Museum of the Aleutians in Unalaska, AK following consultation between the USFWS and the Aleut Corporation. A portion of the remains were transferred again in 2017 in order to undergo re-evaluation at the University of Alaska Museum in Fairbanks, AK. These remains are currently split between the University of Alaska Museum in Fairbanks, AK and the Museum of the Aleutians in Unalaska, AK.

Cultural Affiliation

Based on the information available and the results of consultation, cultural affiliation is reasonably identified by the geographical location or acquisition history of the human remains and associated funerary objects described in this notice.

Determinations

The USFWS has determined that:

• The human remains described in this notice represent the physical remains of 18 individuals of Native American ancestry.

• The 158 objects described in this notice are reasonably believed to have been placed intentionally with or near individual human remains at the time of death or later as part of the death rite or ceremony.

• There is a connection between the human remains and associated funerary objects described in this notice and the Native Village of Atka.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 18, 2025. If competing requests for repatriation are received, the USFWS must determine the most appropriate requestor prior to repatriation. Requests for joint repatriation of the human remains and associated funerary objects are considered a single request and not competing requests. The USFWS is responsible for sending a copy of this notice to the Indian Tribes and Native Hawaiian organizations identified in this notice.

Authority: Native American Graves Protection and Repatriation Act, 25 U.S.C. 3003, and the implementing regulations, 43 CFR 10.10.

Dated: February 19, 2025.
Melanie O'Brien,
Manager, National NAGPRA Program.

[FR Doc. 2025-04615 Filed 3-18-25; 8:45 am]

BILLING CODE 4312-52-P